COMMITTEE FOR PURCHASE FROM PEOPLE WHO ARE BLIND OR SEVERELY DISABLED

Procurement List; Change

AGENCY: Committee for Purchase From People Who Are Blind or Severely Disabled.

ACTION: Change to the Procurement List.

SUMMARY: This action changes service additions to the Procurement List that are furnished by nonprofit agencies employing persons who are blind or have other severe disabilities.

DATES: Comments must be received on or before: March 21, 2026.

ADDRESSES: Committee for Purchase From People Who Are Blind or Severely Disabled, 355 E Street SW, Washington, DC 20024.

FOR FURTHER INFORMATION CONTACT: Michael R. Jurkowski, Telephone: (703) 489-1322, or email CMTEFedReg@AbilityOne.gov.

SUPPLEMENTARY INFORMATION:

Additions

If the Committee approves the change to the Procurement List, the entities of the Federal Government identified in this notice will be required to procure the service(s) listed below from nonprofit agencies employing persons who are blind or have other severe disabilities.

Regulatory Flexibility Act Certification

I certify that the following action will not have a significant impact on any small entities. The major factors considered for this certification were:

1. The action did not result in any additional reporting, recordkeeping, or other compliance requirements for small entities other than the nonprofit agencies furnishing the services to the Government.

2. The action did result in authorizing nonprofit agencies to furnish the products to the Government.

3. There were no known regulatory alternatives which would have accomplished the objectives of the Javits-Wagner-O'Day Act (41 U.S.C. 8501-8506) in connection with the products added to the Procurement List.

End of Certification

The following is the intended change to the service currently on the Procurement List:

Service(s)

Service Type: Customer Contact Center 2 (CCC2)

Mandatory for: GSA PBS Region 3, Defense Manpower Data Center (CONUS), Fort Knox, KY

The Committee for Purchase From People Who Are Blind or Severely Disabled (Committee), is announcing that Chimes District of Columbia, Washington, DC and InspiriTec, Inc., Philadelphia, PA were recommended to the Committee to serve as authorized sources for the GSA PBS Region 3, Defense Manpower Data Center (CONUS), Fort Knox, KY. On February 17, 2026, the Committee approved both nonprofit agencies to serve as authorized sources in accordance with 51-5.2(a).

This notice is to operate the CCC2 for the Defense Manpower Data Center (DMDC), which includes the operation and continuous enhancement of a multi-channel contact center and its associated programs. The Contractor shall provide customer service operations, including Tier 1 and Tier 2 support, and shall provide scalable, secure, and high-quality service delivery that meets the Government's mission needs.

The Contractor shall provide all personnel, operational oversight, and program management necessary to support contact center functions, ensuring compliance with all applicable policies, regulations, and performance standards. The Contractor shall also be responsible for adapting to changing requirements, including potential legislative and policy changes, and supporting new and evolving customer service needs throughout the period of performance. Critically, the Contractor will operate within DMDC's modernized, cloud-native contact center solution on AWS, leveraging AI-powered tools and expanded communication channels to achieve efficiencies and enhanced customer experience. The Contractor will collaborate with DMDC during the transition to ensure a seamless cutover and minimal disruption to customer service.

The Committee has directed SourceAmerica to conduct a Phase II competitive distribution in accordance with 41 CFR 51-3.4(d), Committee Policy 51.301-04, and the parameters outlined in Committee Decision Document ACDD 26-03.

Michael R. Jurkowski,
Director, Business Operations.

[FR Doc. 2026-03281 Filed 2-18-26; 8:45 am]

BILLING CODE 6353-01-P